DEPARTMENT OF ENERGY

Office of Energy Efficiency and Renewable Energy

Availability of Department of Energy EV Everywhere Grand Challenge Initial Framing Document and Request for Public Comment

AGENCY: Office of Energy Efficiency and Renewable Energy, Department of Energy (DOE).

ACTION: Notice of availability and request for public comment.

SUMMARY: The EV Everywhere Grand Challenge is a U.S. Department of Energy “Clean Energy Grand Challenge” with the goal of enabling U.S. companies to be the first in the world to produce plug-in electric vehicles (PEVs) that are as affordable and convenient for the average American family as today's gasoline-powered vehicles within the next 10 years. President Obama announced the EV Everywhere Challenge on March 7, 2012.

The EV Everywhere Initial Framing Document (framing document) has been developed as a principal means of facilitating stakeholder engagement in the planning process. The framing document describes three potential combinations of PEVs and charging infrastructures, among other possible scenarios, and identifies preliminary technical targets for each of these vehicle and infrastructure scenarios.

The framing document is intended to serve as the common framework for stakeholder engagement through public information exchanges and public comment.

DATES: Public comments on this proposed framing document must be received on or before October 29, 2012 to ensure consideration.

ADDRESSES: Electronic mail comments may be submitted to: ev-everywhere@ee.doe.gov. Please include “EV Everywhere” in the subject line. Please put the full body of your comments in the text of the electronic message and as an attachment. Please include your name, title, organization, postal address, telephone number, and email address in the text of the message.

Written comments should be sent to Mr. David Howell, Office of Energy Efficiency and Renewable Energy (EE-2G), U.S. Department of Energy, 1000 Independence Avenue SW, Washington, DC 20585-0121 or by fax at 202-586-1600, or by email at ev-everywhere@ee.doe.gov.

Respondents are encouraged to submit comments electronically to ensure timely receipt. The DOE EV Everywhere framing document can be accessed at http://www1.eere.energy.gov/vehiclesandfuels/.

FOR FURTHER INFORMATION CONTACT: For information concerning this notice, contact Mr. David Howell, Office of Energy Efficiency and Renewable Energy (EE-2G), U.S. Department of Energy, 1000 Independence Avenue SW, Washington, DC 20585-0121, or ev-everywhere@ee.doe.gov.

SUPPLEMENTARY INFORMATION: This notice requests public comment on the following questions related to the DOE EV Everywhere Grand Challenge and the framing document. Commenters are welcome to respond to all questions below, or only respond to select questions.

A. EV Everywhere Mission and Scope: Is the mission statement, “to enable U.S. companies to be the first in the world to produce plug-in electric vehicles (PEVs) that are as affordable and convenient for the average American family as today's gasoline-powered vehicles within the next 10 years” appropriate for the technology development and deployment programs of the Department? Is the goal of developing “PEVs with a payback time of less than 5 years and sufficient range and fast-charging ability to allow the average American family to meet their daily transportation needs” appropriate? Is a payback time of less than 5 years the right measure of affordability or is there a more appropriate metric? Should the scope be limited to “PEVs in which the majority of miles driven are electric” or should the goal be “to maximize the national total of electric vehicle miles driven”?

B. Plug-in Electric Vehicle Scenarios. DOE has identified three potential vehicle/infrastructure scenarios that might achieve the EV Everywhere goals. These scenarios are:

1. A plug-in hybrid electric vehicle with a 40-mile all-electric range (PHEV-40) with limited fast-charge infrastructure;

2. An all-electric vehicle with a 100-mile range (AEV-100) with significant intra-city and inter-city fast charge infrastructure; and

3. An all-electric vehicle with a 300-mile range (AEV-300) with significant inter-city fast charge infrastructure.

Have we correctly identified and structured these three scenarios?

Are there other scenarios that are more appropriate?

C. U.S. Plug-in Electric Vehicle Leadership. How can DOE activities best support leadership in plug-in electric vehicle innovation? In PEV manufacturing? In PEV deployment? How do we balance international competitiveness against international cooperation?

D. Program Definition and Management. What principles should the Department follow for allocating resources among technologies of disparate maturity and potential time to impact? How many technology options should the Department pursue, and how should the value of that diversity be weighed against timeliness, scale, and cost- effectiveness? How can DOE be more effective at each stage of the innovation chain? Are technology targets (e.g., cost or deployment targets) useful markers to orient and structure DOE activities?

E. Public/Private Partnership. What are the optimal roles for the private sector, government laboratories, and academia in accelerating PEV technology innovation? How can DOE best coordinate activities between and among these types of organizations (including the wide variety of institutions within each class)? How should we gauge the effectiveness of this coordination? How can the basic research and applied research and development coupling be optimized? Are there examples in other sectors or other countries that can serve as models? Are “technology user facilities” analogous to the Department's scientific user facilities possible, or even desirable? If so, what would be the most effective model for their operation? How can the Department best gather technology market information? How can information on private sector innovation be captured without compromising competitive advantage?

G. Non-Technical Barriers. A number of non-technical barriers—including Federal, State, and local regulations, market risks, and non-technical risks—impact the rate of deployment of PEV technologies. What role, if any, should the Department have in addressing these barriers?

H. Technologies and Resources. The initial framing document published in association with this announcement describes each of the three scenarios mentioned in part B in greater detail, and highlights several technologies that could contribute to success in each strategy. We welcome updated technology, cost, and forecast data.

The Department also welcomes comment on the format and tone of the framing document as well as identification of any factual errors or omissions of relevant facts and data. The Department also welcomes any additional comments related to the framing document and the EV Everywhere Grand Challenge, generally.

Public Participation Policy

It is the policy of the Department to ensure that public participation is an integral and effective part of DOE activities, and that decisions are made with the benefit of significant public input and perspectives.

The Department recognizes the many benefits to be derived from public participation for both stakeholders and DOE. Public participation provides a means for DOE to gather a diverse collection of opinions, perspectives, and values from the broadest spectrum of the public, enabling the Department to make more informed decisions. Public participation benefits stakeholders by creating an opportunity to provide input on decisions that affect their communities and our Nation.

In keeping with the President's commitment to transparency in Government, DOE will post online at http://www1.eere.energy.gov/vehiclesandfuels/ all submissions received from external parties in response to this request for comment. In addition, DOE will discuss this framing document and the submissions received from external parties with advisory committees, public information exchanges, and expert discussion groups.

Issued in Washington, DC, on August 16, 2012.
Patrick B. Davis,
Program Manager, Vehicle Technologies Program, Energy Efficiency and Renewable Energy.

[FR Doc. 2012-21242 Filed 8-27-12; 8:45 am]

BILLING CODE 6450-01-P